DEPARTMENT OF HEALTH AND HUMAN SERVICES

Centers for Disease Control and Prevention

Disease, Disability, and Injury Prevention and Control Special Emphasis Panel (SEP)—CE-20-003, Research Grants for Preventing Violence and Violence Related Injury; Amended Notice of Meeting

Notice is hereby given of a change in the meeting of the Disease, Disability, and Injury Prevention and Control Special Emphasis Panel (SEP)—CE-20-003, Research Grants for Preventing Violence and Violence Related Injury; April 1-2, 2020, 8:30 a.m.-5:00 p.m., EDT, in the original FRN.

Embassy Suites Buckhead, 3285 Peachtree Road NE, Atlanta, GA 30305, which was published in the Federal Register on February 11, 2020, Volume 85, Number 28, pages 7760-7761.

The meeting is being amended to change to a virtual meeting. The meeting is closed to the public.

FOR FURTHER INFORMATION CONTACT: Kimberly Leeks, Ph.D., M.P.H., Scientific Review Official, NCIPC, CDC, 4770 Buford Highway NE, Building 106, MS S106-9, Atlanta, Georgia 30341, telephone (770) 488-6562; KLeeks@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-05257 Filed 3-13-20; 8:45 am]

BILLING CODE 4163-18-P